DEPARTMENT OF THE TREASURY

Agency Information Collection Activities; Submission for OMB Review; Comment Request; Fiscal Service Implementing Regulations for the Government Securities Act of 1986, as Amended

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before August 25, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Fiscal Service (FS)

Title: Government Securities Act of 1986, as amended.

OMB Control Number: 1530-0064.

Type of Review: Extension without change of a currently approved collection.

Description: The information collection is contained within the regulations issued pursuant to the GSA, which require government securities brokers and dealers to make and keep certain records concerning their business activities and their holdings of government securities, to submit financial reports, and to make certain disclosures to investors. The regulations also require depository institutions to keep certain records of non-fiduciary custodial holdings of government securities. The regulations and associated information collection are fundamental to customer protection and dealer financial responsibility.

Form: G-FIN-4, G-FIN-5, G-405 Part I, G-405 Part II, G-405 Part IIA, G-405 Part III, G-405 Schedule I.

Affected Public: Business and for-profit institutions.

Estimated Number of Respondents: 2,670.

Frequency of Response: On Occasion.

Estimated Total Number of Annual Responses: 2,670.

Estimated Total Annual Burden Hours: 215,111 hours.

Authority: 44 U.S.C. 3501 et seq.

Dated: July 21, 2021.
Molly Stasko,
Treasury PRA Clearance Officer.

[FR Doc. 2021-15864 Filed 7-23-21; 8:45 am]

BILLING CODE 4810-AS-P